NUCLEAR REGULATORY COMMISSION

[Docket No. 030-06552]

Environmental Assessment and Finding of No Significant Impact Related to Issuance of a License Amendment of U.S. Nuclear Regulatory Commission Byproduct Material License No. 45-03302-01 Merck & Company, Inc.

I. Summary

The U. S. Nuclear Regulatory Commission (NRC) is considering terminating Byproduct Material License No. 45-03302-01 to authorize the release of the licensee's facility in Elkton, Virginia for unrestricted use and has prepared an Environmental Assessment (EA) and Finding of No Significant Impact (FONSI) in support of this action.

The NRC has reviewed the results of the final survey of the Merck & Company facility in Elkton, Virginia, and will perform a confirmatory survey prior to termination of the license. Merck & Company was authorized by the NRC from January 10, 1958 until the present to use radioactive materials for research and development purposes at the site. In 2002, Merck & Company ceased operations with licensed materials at the Elkton, Virginia site, and requested that the NRC terminate the license. Merck & Company has conducted surveys of the facility and determined that the facility meets the license termination criteria in subpart E of 10 CFR part 20. The NRC staff has evaluated Merck & Company's request and the results of the surveys, and has developed an EA in accordance with the requirements of 10 CFR part 51. Based on the staff evaluation, the conclusion of the EA is a Finding of No Significant Impact on human health and the environment for the proposed licensing action.

II. Environmental Assessment

Introduction

Merck & Company has requested release for unrestricted use their building located at 2778 South Eastside Highway in Elkton, Virginia as authorized for use by NRC License No. 45-03302-01. License No. 45-03302-01 was issued on January 10, 1958, and amended periodically since that time. NRC-licensed activities performed at the Elkton, Virginia site were limited to laboratory procedures typically performed on bench tops and in hoods. No outdoor areas were affected by the use of licensed materials. Licensed activities ceased completely in September 2002, and the licensee requested release of the facility for unrestricted use. Based on the licensee's historical knowledge of the sites and the condition of the facility, the licensee determined that only routine decontamination activities, in accordance with licensee radiation safety procedures, were required. A decommissioning plan was not required to be submitted to the NRC. The licensee surveyed the facility and provided documentation that the facility meets the license termination criteria specified in subpart E of 10 CFR part 20, “Radiological Criteria for License Termination.” NRC staff will perform a confirmatory survey prior to termination of the license.

The Proposed Action

The proposed action is to terminate NRC Radioactive Materials License No. 45-03302-01 and release the licensee's facility at 2778 South Eastside Highway in Elkton, Virginia, for unrestricted use. By letters dated September 23, 2002 and March 17, 2003, Merck & Company provided survey results which demonstrate that the Elkton, Virginia facility is in compliance with the radiological criteria for license termination in subpart E of 10 CFR part 20, “Radiological Criteria for License Termination.”

Purpose and Need for the Proposed Action

The purpose of the proposed action is to release Merck & Company's facility located at 2778 South Eastside Highway in Elkton, Virginia for unrestricted use and termination of the license. NRC is fulfilling its responsibilities under the Atomic Energy Act to make a decision on a proposed license amendment for release of facilities for unrestricted use that ensures protection of the public health and safety and environment.

Alternatives to the Proposed Action

The only alternative to the proposed action of terminating the license and release of the Elkton, Virginia facility for unrestricted use is no action. The no-action alternative is not acceptable because it will result in violation of NRC's Timeliness Rule (10 CFR 30.36), which requires licensees to decommission their facilities when licensed activities cease. The licensee does not plan to perform any activities with licensed materials at this location. Maintaining the area under a license would also reduce options for future use of the property.

The Affected Environment and Environmental Impacts

The NRC staff has reviewed the surveys performed by Merck & Company to demonstrate compliance with the 10 CFR 20.1402 license termination criteria. Based on its review, the staff has determined that the affected environment and environmental impacts associated with the decommissioning of Merck & Company's facility are bounded by the impacts evaluated by the “Generic Environmental Impact Statement in Support of Rulemaking on Radiological Criteria for License Termination of NRC-Licensed Facilities” (NUREG-1496). The staff also finds that the proposed release for unrestricted use of the Merck & Company facility is in compliance with 10 CFR 201402, “Radiological Criteria for Unrestricted Use.” The NRC has found no other activities in the area that could result in cumulative impacts.

Agencies and Persons Contacted and Sources Used

This Environmental Assessment was prepared entirely by the NRC staff. The U. S. Fish and Wildlife Service was contacted for comment and responded by letter dated January 16, 2003, with no opposition to the action. The Virginia Department of Historic Resources was also contacted and had no comment.

Conclusion

Based on its review, the NRC staff has concluded that the proposed action complies with 10 CFR part 20. NRC has prepared this EA in support of the proposed license termination to release the Merck & Company facility located at 2778 South Eastside Highway in Elkton, Virginia for unrestricted use. On the basis of the EA, NRC has concluded that the environmental impacts from the proposed action are not expected to be significant and has determined not to prepare an environmental impact statement for the proposed action.

List of Preparers

Orysia Masnyk Bailey, Materials Licensing/Inspection Branch 1, Division of Nuclear Materials Safety, Health Physicist.

List of References

1. NRC License No. 45-03302-01 inspection and licensing records.

2. Merck & Company. “Request for Declaration of Decommissioned Status” Letter and supporting documentation from D. Kremer to NRC dated September 23, 2002. (ML022680313)

3. Merck & Company. “Additional Information Concerning Request Dated September 23, 2003” Letter and supporting documentation from D. Kremer to NRC dated March 17, 2003.(ML030830011)

4. Title 10 Code of Federal Regulations part 20, subpart E, “Radiological Criteria for License Termination.”

5. Federal Register notice, Volume 65, No. 114, page 37186, dated Tuesday, June 13, 2000, “Use of Screening Values to Demonstrate Compliance With The Federal Rule on Radiological Criteria for License Termination.”

6. United States Department of the Interior. “Merck & Company Elkton Facility, Termination of Byproduct Materials License, #2803, Rockingham County, Virginia” Letter from K. Mayne, U.S. Fish and Wildlife Service to NRC dated January 16, 2003. (ML030220358)

III. Finding of No Significant Impact

Based upon the environmental assessment, the staff concludes that the proposed action will not have a significant effect on the quality of the human environment. Accordingly, the staff has determined that preparation of an environmental impact statement is not warranted.

IV. Further Information

The references listed above are available for public inspection and may also be copied for a fee at the NRC's Public Document Room, located at One White Flint North, 11555 Rockville Pike, Rockville, MD 20852. These documents are also available for public review through ADAMS, the NRC's electronic reading room, at: http://www.nrc.gov/reading-rm/adams.htlm. Any questions with respect to this action should be referred to Orysia Masnyk Bailey, Materials Licensing/Inspection Branch 1, Division of Nuclear Materials Safety, U.S. Nuclear Regulatory Commission, Region II, Suite 23T85, 61 Forsyth Street, SW., Atlanta, Georgia 30303. Telephone 404-562-4739.

Dated at Atlanta, Georgia, the 17th day of June, 2003.
For the Nuclear Regulatory Commission.
Douglas M. Collins,
Director, Division of Nuclear Materials Safety, Region II.

[FR Doc. 03-16534 Filed 6-30-03; 8:45 am]

BILLING CODE 7590-01-P